DEPARTMENT OF HOMELAND SECURITY

Federal Emergency Management Agency

[Docket ID: FEMA-2014-0020; OMB No. 1660-0058]

Agency Information Collection Activities: Submission for OMB Review; Comment Request

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before September 24, 2014.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 500 C Street, Washington, DC 20472-3100, facsimile number (202) 212-4701, or email address FEMA-Information-Collections-Management@dhs.gov.

SUPPLEMENTARY INFORMATION: FEMA published a 60-day Federal Register Notice inviting public comments on May 28, 2014, 79 FR 30633. FEMA received one comment from one respondent. The commenter stated that government funds should not be used for pre-fire activities but rather homeowners should be responsible and take necessary steps to avoid fires. The commenter did approve of funds being used for cleanup. They also stated that government should be smaller. FEMA appreciates receiving this comment although the comment is not directly related to the cost and hour burden. If a grant is approved, the funds only pay for minimum pre-fire activities and these must be pre-approved in order to be eligible for funding. The funds used for pre-fire activities pay for pre-positioning equipment and personnel so a fire can be more quickly mitigated and contained, which helps reduce government fire-fighting costs.

Collection of Information

Title: Fire Management Assistance Grant Program.

Type of information collection: Extension, without change, of a currently approved information collection.

OMB Number: 1660-0058.

Form Titles and Numbers: FEMA Form 078-0-1, Request for Fire Management Assistance Declaration; FEMA Form 089-0-24, Request for Fire Management Sub-grant; FEMA Form 078-0-2, Principal Advisor's Report.

Abstract: The information collection is required to make grant eligibility determinations for the Fire Management Assistance Grant Program (FMAGP). These eligibility-based grants and subgrants provide assistance to any eligible State, Indian tribal government, or local government for the mitigation, management, and control of a fire on public or private forest land or grassland that is threatening such destruction as would constitute a major disaster. The data/information gathered in the forms is used to determine the severity of the threatening fire, current and forecast weather conditions, and associated factors related to the fire and its potential threat as a major disaster.

Affected Public: State, local, or Tribal Government.

Estimated Number of Respondents: 178.

Estimated Total Annual Burden Hours: 811 hours.

Estimated Cost: The estimated annual cost to respondents for the hour burden is $42,626.16. There are no annual costs to respondents' operations and maintenance costs for technical services. There are no annual start-up or capital costs. The cost to the Federal Government is $532,814.00.

Dated: August 14, 2014.
Charlene D. Myrthil,
Director, Records Management Division, Mission Support Bureau, Federal Emergency Management Agency, Department of Homeland Security.

[FR Doc. 2014-20048 Filed 8-22-14; 8:45 am]

BILLING CODE 9111-23-P